ENVIRONMENTAL PROTECTION AGENCY

[EPA-HQ-OAR-2003-0034; FRL-9927-08-OEI]

Proposed Information Collection Request; Comment Request; Voluntary Aluminum Industrial Partnership (VAIP) (Renewal)

AGENCY: Environmental Protection Agency (EPA).

ACTION: Notice.

SUMMARY: The Environmental Protection Agency (EPA) is planning to submit an information collection request (ICR), Voluntary Aluminum Industrial Partnership (VAIP) (Renewal)—EPA ICR No. 1867.05, OMB Control No. 2060-0411—to the Office of Management and Budget (OMB) for review and approval in accordance with the Paperwork Reduction Act (44 U.S.C. 3501 et seq.). Before doing so, EPA is soliciting public comments on specific aspects of the proposed information collection as described below. This is a proposed extension of the ICR, which is currently approved through June 30, 2015. An agency may not conduct or sponsor and a person is not required to respond to a collection of information unless it displays a currently valid OMB control number.

DATES: Comments must be submitted on or before June 30, 2015.

ADDRESSES: Submit your comments, referencing the Docket ID number provided above, online using www.regulations.gov (our preferred method), or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Sally Rand, Climate Change Division, Office of Atmospheric Programs (6207J), Environmental Protection Agency, 1200 Pennsylvania Ave. NW., Washington, DC 20460; telephone number: 202-343-9739; fax number: 202-343-2202; email address: rand.sally@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: EPA's Voluntary Aluminum Industrial Partnership (VAIP) was initiated in 1995 and is an important voluntary program contributing to the overall reduction in emissions of greenhouse gases. This program focuses on reducing direct greenhouse gas emissions including perfluorocarbon (PFC) and carbon dioxide (CO2) emissions from the production of primary aluminum. Six of the seven U.S. producers of primary aluminum participate in this program. PFCs are very potent greenhouse gases with global warming potentials several thousand times that of carbon dioxide, and they persist in the atmosphere for thousands of years. CO2 is emitted from consumption of the carbon anode. The Partnership effectively promotes the adoption of emission reduction technologies and practices associated with decreasing the frequency and duration of anode effects. Participants voluntarily agree to designate a VAIP liaison, and to undertake and share information on technically feasible and cost-effective actions to reduce PFC and direct CO2 emissions. The information contained in the annual reports of VAIP members is used by EPA to assess the success of the program in achieving its goals and to advance Partner efforts to reduce greenhouse gas emissions.

Respondents/affected entities: Producers of primary aluminum.

Respondent's obligation to respond: Voluntary.

Estimated number of respondents: 6 (total).

Frequency of response: Voluntary.

Total estimated burden: 240 hours (per year). Burden is defined at 5 CFR 1320.03(b).

Total estimated cost: $22,668 (per year), includes no annualized capital or operation & maintenance costs.

Courtney Kerwin,
Acting Director, Collection Strategies Division.

[FR Doc. 2015-10124 Filed 4-30-15; 8:45 am]

BILLING CODE 6560-50-P